DEPARTMENT OF COMMERCE

International Trade Administration

[A-533-840, A-549-822]

Certain Frozen Warmwater Shrimp From India and Thailand: Notice of Initiation of Antidumping Duty Administrative Reviews

AGENCY: Import Administration, International Trade Administration, Department of Commerce.

SUMMARY: The Department of Commerce (the Department) has received requests to conduct administrative reviews of the antidumping duty orders on certain frozen warmwater shrimp (shrimp) from India and Thailand. The anniversary month of these orders is February. In accordance with the Department's regulations, we are initiating these administrative reviews.

DATES: Effective Date: April 2, 2013.

FOR FURTHER INFORMATION CONTACT: David Crespo at (202) 482-3693 (India) and Blaine Wiltse (202) 482-6345 (Thailand), AD/CVD Operations, Office 2, Import Administration, International Trade Administration, U.S. Department of Commerce, 14th Street and Constitution Avenue NW., Washington, DC 20230.

SUPPLEMENTARY INFORMATION:

Background

During the anniversary month of February 2013, the Department received timely requests, in accordance with 19 CFR 351.213(b), for administrative reviews of the antidumping duty orders on shrimp from India and Thailand from the Ad Hoc Shrimp Trade Action Committee (hereinafter, petitioner), the American Shrimp Processors Association (ASPA), and certain individual companies.

All deadlines for the submission of various types of information, certifications, or comments or actions by the Department discussed below refer to the number of calendar days from the applicable starting time.

Notice of No Sales

If a producer or exporter named in this notice of initiation had no exports, sales, or entries during the period of review (POR), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (the Act).

Respondent Selection

In the event the Department limits the number of respondents for individual examination for administrative reviews, the Department intends to select respondents based on U.S. Customs and Border Protection (CBP) data for U.S. imports during the POR. We intend to release the CBP data under Administrative Protective Order (APO) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, or changed circumstances review). For any company subject to these reviews, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Initiation of Reviews

In accordance with 19 CFR 351.221(c)(1)(i), we are initiating administrative reviews of the antidumping duty orders on shrimp from India and Thailand. We intend to issue the final results of these reviews not later than February 28, 2014.

| Period to be reviewed
Antidumping Duty Proceedings
India: Certain Frozen Warmwater Shrimp, A-533-840 | 2/1/12-1/31/13
Abad Fisheries
Accelerated Freeze-Drying Co
Adilakshmi Enterprises
Allana Frozen Foods Pvt. Ltd
Allansons Ltd
AMI Enterprises
Amulya Seafoods
Ananda Aqua Applications/Ananda Aqua Exports (P) Limited/Ananda Foods
Anand Aqua Exports
Andaman Sea Foods Pvt. Ltd
Angelique Intl
Anjaneya Seafoods
Apex Frozen Foods Private Limited. ¹
Arvi Import & Export
Asvini Exports
Asvini Fisheries Private Limited
Avanti Feeds Limited
Ayshwarya Seafood Private Limited
Baby Marine Exports
Baby Marine International
Baby Marine Sarass
Balasore Marine Exports Private Limited
Bhatsons Aquatic Products
Bhavani Seafoods
Bijaya Marine Products
Blue Fin Frozen Foods Pvt. Ltd
Blue Water Foods & Exports P. Ltd
Bluefin Enterprises
Bluepark Seafoods Private Ltd
BMR Exports
Britto Exports
C P Aquaculture (India) Ltd
Calcutta Seafoods Pvt. Ltd
Canaan Marine Products
Capithan Exporting Co
Castlerock Fisheries Ltd
Chemmeens (Regd)
Cherukattu Industries (Marine Div.)
Choice Canning Company
Choice Trading Corporation Private Limited
Coastal Aqua
Coastal Corporation Ltd
Cochin Frozen Food Exports Pvt. Ltd
Coreline Exports
Corlim Marine Exports Pvt. Ltd
D2 D Logistics Private Limited
Damco India Private
Delsea Exports Pvt. Ltd
Devi Fisheries Limited/Satya Seafoods Private Limited/Usha Seafoods
Devi Marine Food Exports Private Ltd./Kader Exports Private Limited/Kader Investment and Trading Company Private Limited/Liberty Frozen Foods Pvt. Ltd./Liberty Oil Mills Ltd./Premier Marine Products/Universal Cold Storage Private Limited
Diamond Seafood Exports/Edhayam Frozen Foods Pvt. Ltd./Kadalkanny Frozen Foods/Theva & Company
Digha Seafood Exports
Esmario Export Enterprises
Exporter Coreline Exports
Falcon Marine Exports Limited/K.R. Enterprises
Five Star Marine Exports Private Limited
Forstar Frozen Foods Pvt. Ltd
Frontline Exports Pvt. Ltd
G A Randerian Ltd
Gadre Marine Exports
Galaxy Maritech Exports P. Ltd
Gayatri Seafoods
Geo Aquatic Products (P) Ltd
Geo Seafoods
Goodwill Enterprises
Grandtrust Overseas (P) Ltd
GVR Exports Pvt. Ltd
Haripriya Marine Exports Pvt. Ltd
Harmony Spices Pvt. Ltd
HIC ABF Special Foods Pvt. Ltd
Hindustan Lever, Ltd
Hiravata Ice & Cold Storage
Hiravati Exports Pvt. Ltd
Hiravati International P. Ltd. (located at APM—Mafco Yard, Sector—18, Vashi, Navi, Mumbai—400 705, India)
Hiravati International Pvt. Ltd. (located at Jawar Naka, Porbandar, Gujarat, 360 575, India)
Hiravati Marine Products Private Limited
IFB Agro Industries Ltd
Indian Aquatic Products
Indo Aquatics
Innovative Foods Limited
International Freezefish Exports
Interseas
ITC Limited, International Business
ITC Ltd
Jagadeesh Marine Exports
Jaya Satya Marine Exports
Jaya Satya Marine Exports Pvt. Ltd
Jayalakshmi Sea Foods Private Limited
Jinny Marine Traders
Jiya Packagings
K R M Marine Exports Ltd
K V Marine Exports
Kalyan Aqua & Marine Exports India Pvt. Ltd
Kalyanee Marine
Kanch Ghar
Kay Kay Exports
Kings Marine Products
Koluthara Exports Ltd
Konark Aquatics & Exports Pvt. Ltd
Landauer Ltd
LCL Logistix (India) Private Limited
Libran Cold Storages (P) Ltd
Lighthouse Trade Links Pvt. Ltd
Magnum Estates Limited
Magnum Export
Magnum Sea Foods Limited
Malabar Arabian Fisheries
Malnad Exports Pvt. Ltd
Mangala Marine Exim India Pvt. Ltd
Mangala Sea Products
Meenaxi Fisheries Pvt. Ltd
MSC Marine Exporters
MSRDR Exports
MTR Foods
N.C. John & Sons (P) Ltd
Naga Hanuman Fish Packers
Naik Frozen Foods
Naik Seafoods Ltd
Navayuga Exports
Nekkanti Sea Foods Limited
Nezami Rekha Sea Food Private Limited
NGR Aqua International
Nila Sea Foods Pvt. Ltd
Nine Up Frozen Foods
Overseas Marine Export
Paragon Sea Foods Pvt. Ltd
Parayil Food Products Pvt. Ltd
Penver Products Pvt. Ltd
Pesca Marine Products Pvt. Ltd
Pijikay International Exports P Ltd
Pisces Seafood International
Premier Exports International
Premier Marine Foods
Premier Marine Products
Premier Seafoods Exim (P) Ltd
R V R Marine Products Limited
Raa Systems Pvt. Ltd
Raju Exports
Ram's Assorted Cold Storage Ltd
Raunaq Ice & Cold Storage
Raysons Aquatics Pvt. Ltd
Razban Seafoods Ltd
RBT Exports
RDR Exports
Riviera Exports Pvt. Ltd
Rohi Marine Private Ltd
S & S Seafoods
S. A. Exports
S Chanchala Combines
Safa Enterprises
Sagar Foods
Sagar Grandhi Exports Private Limited
Sagar Samrat Seafoods
Sagarvihar Fisheries Pvt. Ltd
SAI Marine Exports Pvt. Ltd
SAI Sea Foods
Sanchita Marine Products Private Limited
Sandhya Aqua Exports
Sandhya Aqua Exports Pvt. Ltd
Sandhya Marines Limited
Santhi Fisheries & Exports Ltd
Sarveshwari Exp
Sarveshwari Ice & Cold Storage Pvt. Ltd
Sawant Food Products
Seagold Overseas Pvt. Ltd
Selvam Exports Private Limited
Sharat Industries Ltd
Shimpo Exports Pvt. Ltd
Shippers Exports
Shiva Frozen Food Exp. Pvt. Ltd
Shree Datt Aquaculture Farms Pvt. Ltd
Shroff Processed Food & Cold Storage P Ltd
Silver Seafood
Sita Marine Exports
Sowmya Agri Marine Exports
Sprint Exports Pvt. Ltd
Sri Chandrakantha Marine Exports
Sri Sakkthi Cold Storage
Sri Sakthi Marine Products P Ltd
Sri Satya Marine Exports
Sri Venkata Padmavathi Marine Foods Pvt. Ltd
Srikanth International
SSF Ltd
Star Agro Marine Exports Private Limited
Star Organic Foods Incorporated
Sun-Bio Technology Ltd
Suryamitra Exim Pvt. Ltd
Suvarna Rekha Exports Private Limited
Suvarna Rekha Marines P Ltd
TBR Exports Pvt Ltd
Teekay Marine P. Ltd
Tejaswani Enterprises
The Waterbase Ltd
Triveni Fisheries P Ltd
Uniroyal Marine Exports Ltd
Unitriveni Overseas
V.S. Exim Pvt. Ltd
Vasista Marine
Veejay Impex
Victoria Marine & Agro Exports Ltd
Vinner Marine
Vishal Exports
Wellcome Fisheries Limited
West Coast Frozen Foods Private Limited
Z A Sea Foods Pvt. Ltd
Thailand: Certain Frozen Warmwater Shrimp, A-549-822 | 2/1/12-1/31/13
A Foods 1991 Co., Ltd. ²
A. Wattanachai Frozen Products Co., Ltd
A.S. Intermarine Foods Co., Ltd
ACU Transport Co., Ltd
Anglo-Siam Seafoods Co., Ltd
Apex Maritime (Thailand) Co., Ltd
Apitoon Enterprise Industry Co., Ltd
Applied DB Ind
Asian Seafood Coldstorage (Sriracha)
Asian Seafoods Coldstorage Public Co., Ltd./Asian Seafoods Coldstorage (Suratthani) Co., Limited/STC Foodpak Ltd
Assoc. Commercial Systems
B.S.A. Food Products Co., Ltd
Bangkok Dehydrated Marine Product Co., Ltd
C Y Frozen Food Co., Ltd
C.P. Retailing and Marketing Co., Ltd
C.P. Intertrade Co. Ltd
Calsonic Kansei (Thailand) Co., Ltd
Century Industries Co., Ltd
Chaivaree Marine Products Co., Ltd
Chaiwarut Company Limited
Charoen Pokphand Foods Public Company Limited
Chonburi LC
Chue Eie Mong Eak Ltd. Part
Commonwealth Trading Co., Ltd
Core Seafood Processing Co., Ltd
CP Merchandising Co., Ltd
C.P. Mdse
Crystal Frozen Foods Co., Ltd. and/or Crystal Seafood
CY Frozen Food Co., Ltd
Daedong (Thailand) Co. Ltd
Daiei Taigen (Thailand) Co., Ltd
Daiho (Thailand) Co., Ltd
Dynamic Intertransport Co., Ltd
Earth Food Manufacturing Co., Ltd
F.A.I.T. Corporation Limited
Far East Cold Storage Co., Ltd
Findus (Thailand) Ltd
Fortune Frozen Foods (Thailand) Co., Ltd
Frozen Marine Products Co., Ltd
Gallant Ocean (Thailand) Co., Ltd
Gallant Seafoods Corporation
Global Frozen Food (Thailand) Co
Global Maharaja Co., Ltd
Golden Seafood International Co., Ltd
Golden Sea Frozen Foods Co., Ltd
Golden Thai Imp. & Exp. Co., Ltd
Good Fortune Cold Storage Co. Ltd
Good Luck Product Co., Ltd
Grobest Frozen Foods Co., Ltd
GSE Lining Technology Co., Ltd
Gulf Coast Crab Intl
H.A.M. International Co., Ltd
Haitai Seafood Co., Ltd
Handy International (Thailand) Co., Ltd
Heng Seafood Limited Partnership
Heritrade Co., Ltd
HIC (Thailand) Co., Ltd
High Way International Co., Ltd
I.T. Foods Industries Co., Ltd
Inter-Oceanic Resources Co., Ltd
Inter-Pacific Marine Products Co., Ltd
K & U Enterprise Co., Ltd
K Fresh
K. D. Trading Co., Ltd
K.L. Cold Storage Co., Ltd
KF Foods Limited
Kiang Huat Sea Gull Trading Frozen Food Public Co., Ltd
Kibun Trdg
Kingfisher Holdings Ltd
Kitchens of the Oceans (Thailand) Company, Limited
Klang Co., Ltd
Kongphop Frozen Foods Co., Ltd
Kosamut Frozen Foods Co., Ltd
Lee Heng Seafood Co., Ltd
Leo Global Logistics Co., Ltd
Leo Transports
Li-Thai Frozen Foods Co., Ltd
Lucky Union Foods Co., Ltd
Maersk Line
Magnate & Syndicate Co., Ltd
Mahachai Food Processing Co., Ltd
Marine Gold Products Ltd
Merit Asia Foodstuff Co., Ltd
Merkur Co., Ltd
Ming Chao Ind Thailand
N&N Foods Co., Ltd
NR Instant Produce Co., Ltd
Namprik Maesri Ltd. Part
Narong Seafood Co., Ltd
Nha Trang Seaproducts Company (“Nha Trang”) and/or Nha Trang Seaproduct Company (“NHA TRANG SEAFOODS”)
Nongmon SMJ Products
Ongkorn Cold Storage Co., Ltd./Thai-Ger Marine Co., Ltd
Pacific Queen Co., Ltd
Pakfood Public Company Limited/Asia Pacific (Thailand) Co., Ltd./Chaophraya Cold Storage Co., Ltd./Okeanos Co., Ltd./Okeanos Food Co., Ltd./Takzin Samut Co., Ltd
Penta Impex Co., Ltd
Pinwood Nineteen Ninety Nine
Piti Seafood Co., Ltd
Premier Frozen Products Co., Ltd
Preserved Food Specialty Co., Ltd
Queen Marine Food Co., Ltd
Rayong Coldstorage (1987) Co., Ltd
S&D Marine Products Co., Ltd
S&P Aquarium
S&P Syndicate Public Company Ltd
S. Chaivaree Cold Storage Co., Ltd
S. Khonkaen Food Industry Public Co., Ltd. and/or S. Khonkaen Food Ind. Public
S.K. Foods (Thailand) Public Co. Limited
Samui Foods Company Limited
SB Inter Food Co., Ltd
SCT Co., Ltd
Sea Bonanza Food Co., Ltd
SEA NT'L CO., LTD
Seafoods Enterprise Co., Ltd
Seafresh Fisheries/Seafresh Industry Public Co., Ltd
Search & Serve
Shianlin Bangkok Co., Ltd
Shing Fu Seaproducts Development Co
Siam Food Supply Co., Ltd
Siam Intersea Co., Ltd
Siam Marine Products Co. Ltd
Siam Ocean Frozen Foods Co. Ltd
Siamchai International Food Co., Ltd
Smile Heart Foods
SMP Products, Co., Ltd
Southport Seafood Co., Ltd
Stapimex
Star Frozen Foods Co., Ltd
Starfoods Industries Co., Ltd
Suntechthai Intertrading Co., Ltd
Surapon Foods Public Co., Ltd./Surat Seafoods Co., Ltd
Surapon Nichirei Foods Co., Ltd
Suratthani Marine Products Co., Ltd
Suree Interfoods Co., Ltd
T.S.F. Seafood Co., Ltd
Tanaya International Co., Ltd
Tep Kinsho Foods Co., Ltd
Teppitak Seafood Co., Ltd
Tey Seng Cold Storage Co., Ltd
Thai Agri Foods Public Co., Ltd
Thai Mahachai Seafood Products Co., Ltd
Thai Ocean Venture Co., Ltd
Thai Patana Frozen
Thai Prawn Culture Center Co., Ltd
Thai Royal Frozen Food Co., Ltd
Thai Spring Fish Co., Ltd
Thai Union Frozen Products Public Co., Ltd./Thai Union Seafood Co., Ltd
Thai Union Manufacturing Company Limited
Thai World Import and Export Co., Ltd
Thai Yoo Ltd., Part
The Siam Union Frozen Foods Co., Ltd
The Union Frozen Products Co., Ltd./Bright Sea Co., Ltd
Trang Seafood Products Public Co., Ltd
Transamut Food Co., Ltd
Tung Lieng Tradg
United Cold Storage Co., Ltd
UTXI Aquatic Products Processing Company
V. Thai Food Product Co., Ltd
Xian-Ning Seafood Co., Ltd
Yeenin Frozen Foods Co., Ltd
YHS Singapore Pte
ZAFCO TRDG
¹ On December 11, 2012, the Department determined that Apex Frozen Foods Private Limited is the successor-in-interest to Apex Exports. See Final Results of Antidumping Duty Changed Circumstances Review: Certain Frozen Warmwater Shrimp From India, 77 FR 73619 (December 11, 2012)
² On December 1, 2011, the Department found that A Foods 1991 Co., Limited is the successor-in-interest to May Ao Company Limited/May Ao Foods Co., Ltd. See Notice of Final Results of Antidumping Duty Changed Circumstances Review: Certain Frozen Warmwater Shrimp from Thailand, 75 FR 74684 (Dec. 1, 2011). Because the effective date of this determination is during a prior POR, we have included only A Foods 1991 Co., Limited for purposes of initiation.

Interested parties must submit applications for disclosure under administrative protective orders in accordance with 19 CFR 351.305. On January 22, 2008, the Department published Antidumping and Countervailing Duty Proceedings: Documents Submission Procedures; APO Procedures, 73 FR 3634 (January 22, 2008). Those procedures apply to the administrative reviews included in this notice of initiation. Parties wishing to participate in either of these administrative reviews should ensure that they meet the requirements of these procedures (e.g., the filing of separate letters of appearance as discussed at 19 CFR 351.103(d)).

Any party submitting factual information in an antidumping duty proceeding must certify to the accuracy and completeness of that information. See section 782(b) of the Act. Parties are hereby reminded that revised certification requirements are in effect for company/government officials as well as their representatives in all segments of any antidumping duty proceedings initiated on or after March 14, 2011. See Certification of Factual Information to Import Administration During Antidumping and Countervailing Duty Proceedings: Interim Final Rule, 76 FR 7491 (February 10, 2011) (Interim Final Rule), amending 19 CFR 351.303(g)(1) and (2). The formats for the revised certifications are provided at the end of the Interim Final Rule. The Department intends to reject factual submissions in these proceedings if the submitting party does not comply with the revised certification requirements.

These initiations and this notice are in accordance with section 751(a) of the Act (19 U.S.C. 1675(a)) and 19 CFR 351.221(c)(1)(i).

Dated: March 28, 2013.
Edward C. Yang,
Senior Director, China/Non-Market Economy Unit.

[FR Doc. 2013-07648 Filed 4-1-13; 8:45 am]

BILLING CODE 3510-DS-P